DEPARTMENT OF ENERGY

Federal Energy Regulatory Commission; National Park Service, Department of the Interior

[Project No. 11659-002 Alask]

Gustavus Electric Company; Notice of Intent to Prepare Environmental Impact Statement

June 28, 2002.

Summary: The Federal Energy Regulatory Commission (FERC) and the National Park Service (NPS) are jointly preparing an environmental impact statement (EIS) in accordance with the National Environmental Policy Act (NEPA) of 1969, and consistent with the Council on Environmental Quality's guidelines, 40 CFR part 1500, on a proposal to construct the Falls Creek Hydroelectric Project (FERC No 11659-002). The Glacier Bay National Park Boundary Adjustment Act of 1998 [105 Public Law 317; 112 Stat. 3002 (1998)] (Act) specifies the NPS shall participate as a joint lead agency (with FERC) in the development of this environmental document.

The Act authorizes FERC to accept a hydropower license application from Gustavus Electric Company (GEC) for the construction, operation and maintenance of the proposed 800 kW Falls Creek Hydroelectric Project located within Glacier Bay National Park. GEC filed their application with FERC on October 23, 2001.

The Act authorizes the Secretary of the Interior to exchange designated wilderness land located in Glacier Bay National Park to the State of Alaska (State), for this project. This exchange is authorized if the Secretary of the Interior concludes that the Falls Creek Hydroelectric Project can be constructed and operated without adversely impacting the purposes and values of the park, as constituted after the land exchange. The exchange is predicated upon the State conveying to the United States lands worthy of being included in the National Park System. To ensure this transaction maintains approximately the same amount of designated wilderness in the National Wilderness Preservation System as currently exists, other land in Glacier Bay National Park and Preserve shall be designated wilderness upon consummation of the land exchange. This land shall be administered according to the laws governing national wilderness areas in Alaska.

The federal actions under consideration in this EIS are whether to issue a license for construction, operation and maintenance of the Falls Creek Hydroelectric Project; the exchange of federal land with state land; and the removal of land from wilderness designation and designation of other land as wilderness.

To prepare the license application, GEC followed the FERC alternative licensing procedures. In accordance with the FERC Regulations for Licensing Hydroelectric Projects at 18 CFR 4.34 this included conducting a scoping process and preparing a preliminary draft environmental assessment (PDEA). The PDEA describes GEC's scoping process and includes copies of comments received by GEC.

The information and analysis from the PDEA will be used, in conjunction with other information, to prepare the EIS. A copy of the PDEA and license application is on file with FERC and is available for public inspection. This filing may be viewed on the web at http://www.ferc.gov using the “RIMS” link—select “Docket #” and follow the instructions (call 202-208-2222 for assistance). The PDEA and application are also available from GEC, P.O. Box 102, Gustavus, Alaska 99826, 907-697-2299.

The EIS will consider a reasonable range of alternatives developed in response to issues raised through public involvement and comment from the GEC pre-application scoping process and any additional scoping occurring under this Notice of Intent. The potential range of alternatives will include the proposed action as described in the PDEA, a no action, a modified proposed action and alternative means of power generation that may be economically and environmentally viable.

The potential alternatives will consider the issues previously identified through GEC's scoping and other issues identified in scoping for the EIS. The major issues are: (1) The impact of reduced water flow on the hydrologic regime, resident Dolly Varden, associated Falls Creek habitats, and aesthetics; (2) impacts to the Falls Creek uplands and wetlands from the access and penstock routes; (3) impacts of the proposal on surrounding Glacier Bay National Park lands and waters; (4) effect of the proposal on the purposes and values of Glacier Bay National Park; (5) impacts on resources and recreation in the project area and surrounding lands resulting from a change in land management from NPS to State administration; and (6) impacts of the land exchange, including the removal of wilderness lands from Glacier Bay National Park wilderness and designation of wilderness lands elsewhere.

Scoping: The scoping conducted to date by GEC under the FERC Alternative Licensing Process and comments filed with FERC on the application apply and will be taken into account in the EIS. No additional scoping meetings will be held. FERC and NPS are soliciting written comments from federal and state agencies, local government, private organizations, recreational users, and the public. Notice of this comment period will be announced in local and regional newspapers, including Gustavus, Juneau and Anchorage.

DATES: Comments concerning the scope of this project should be filed within 60 days of the issuance of this notice. The draft EIS is projected to be available in late 2002 or early 2003.

Filing Information: FERC's Rules of Practice require all intervenors filing documents with FERC to serve a copy of that document on each person on the official service list for the project. Further, if an intervenor files comments or documents with FERC relating to the merits of an issue that may affect the responsibilities of a particular resource agency, they must also serve a copy of the document on that resource agency. All documents (original and eight copies) should be filed with Magalie R. Salas, Secretary, Federal Energy Regulatory Commission, 888 First Street, NE, Washington, DC 20426.

Comments may also be filed electronically via the Internet in lieu of paper. See 18 CFR 385.2001(a)(1)(iii) and the instructions on the Commission's web site (http://www.ferc.gov) under the “e-Filing” link.

If individuals submitting comments request that their name and/or address be withheld from public disclosure, the request will be honored to the extent allowable by law. Such requests must comply with Commission regulations (see 18 CFR 388.112). In particular, individuals requesting their name and/or address be withheld from public disclosure must submit two versions of each filing: one with their name and/or address redacted from the document, and one unredacted version of the document that includes the information to be withheld and boldly indicating on the front page “Contains Privileged Information—Do Not Release.” There also may be circumstances wherein the FERC and NPS will withhold a respondent's identity to the extent allowable by law. All submissions from organizations, businesses, or persons identifying themselves as representatives or officials of organizations and businesses will be made available for public inspection. Anonymous comments will not be considered.

Any questions regarding this notice may be directed to Bob Easton (FERC representative) at (202) 219-2782 or Bruce Greenwood (NPS representative) at (907) 257-2623.

Linwood A. Watson, Jr.,
Deputy Secretary.

[FR Doc. 02-16841 Filed 7-3-02; 8:45 am]

BILLING CODE 6717-01-P